DEPARTMENT OF ENERGY

Federal Energy Regulatory Commission

Combined Notice of Filings

Take notice that the Commission has received the following Natural Gas Pipeline Rate and Refund Report filings:

Filings Instituting Proceedings

Docket Numbers: PR24-44-000.

Applicants: Spire Storage Salt Plains LLC.

Description: § 284.123 Rate Filing: Salt Plains—Notification of Change in Circumstances to be effective N/A.

Filed Date: 1/29/24.

Accession Number: 20240129-5201.

Comment Date: 5 p.m. ET 2/20/24.

Docket Numbers: PR24-45-000.

Applicants: NorthWestern Energy Public Service Corporation.

Description: § 284.123 Rate Filing: Statement of Operating Conditions to be effective 1/30/2024.

Filed Date: 1/30/24.

Accession Number: 20240130-5098.

Comment Date: 5 p.m. ET 2/20/24.

Docket Numbers: RP24-348-000.

Applicants: Great Lakes Gas Transmission Limited Partnership.

Description: Compliance filing: Semi-Annual Transporter's Use Report January 2024 to be effective N/A.

Filed Date: 1/29/24.

Accession Number: 20240129-5170.

Comment Date: 5 p.m. ET 2/12/24.

Docket Numbers: RP24-349-000.

Applicants: Spire Storage West LLC.

Description: Compliance filing: Spire Storage West—Notification of Change in Circumstances to be effective N/A.

Filed Date: 1/29/24

Accession Number: 20240129-5199.

Comment Date: 5 p.m. ET 2/12/24.

Docket Numbers: RP24-350-000.

Applicants: El Paso Natural Gas Company, L.L.C.

Description: § 4(d) Rate Filing: Negotiated Rate Agreement Update (SoCal Feb 2024) to be effective 2/1/2024.

Filed Date: 1/29/24.

Accession Number: 20240129-5204.

Comment Date: 5 p.m. ET 2/12/24.

Docket Numbers: RP24-351-000.

Applicants: El Paso Natural Gas Company, L.L.C.

Description: § 4(d) Rate Filing: Negotiated Rate Agreement Filing (Pioneer Feb 2024) to be effective 2/1/2024.

Filed Date: 1/29/24.

Accession Number: 20240129-5205.

Comment Date: 5 p.m. ET 2/12/24.

Docket Numbers: RP24-352-000.

Applicants: Iroquois Gas Transmission System, L.P.

Description: § 4(d) Rate Filing: 1.30.24 Negotiated Rates—Emera Energy Services, Inc. R-2715-92 to be effective 2/1/2024.

Filed Date: 1/30/24.

Accession Number: 20240130-5023.

Comment Date: 5 p.m. ET 2/12/24.

Docket Numbers: RP24-353-000.

Applicants: Eastern Gas Transmission and Storage, Inc.

Description: § 4(d) Rate Filing: EGTS—January 30, 2024 Nonconforming Service Agreement to be effective 3/1/2024.

Filed Date: 1/30/24.

Accession Number: 20240130-5026.

Comment Date: 5 p.m. ET 2/12/24.

Docket Numbers: RP24-354-000.

Applicants: Enable Gas Transmission, LLC.

Description: § 4(d) Rate Filing: Amended NRA Filing—Summit Utilities to be effective 2/1/2024.

Filed Date: 1/30/24.

Accession Number: 20240130-5086.

Comment Date: 5 p.m. ET 2/12/24.

Docket Numbers: RP24-355-000.

Applicants: Enable Gas Transmission, LLC.

Description: § 4(d) Rate Filing: 1-30-24 Housekeeping Filing to be effective 3/1/2024.

Filed Date: 1/30/24.

Accession Number: 20240130-5087.

Comment Date: 5 p.m. ET 2/12/24.

Docket Numbers: RP24-356-000.

Applicants: Ruby Pipeline, L.L.C.

Description: § 4(d) Rate Filing: RP 2024-01-30 FL&U and EPC Rate Adjustment to be effective 3/1/2024.

Filed Date: 1/30/24.

Accession Number: 20240130-5103.

Comment Date: 5 p.m. ET 2/12/24.

Docket Numbers: RP24-358-000.

Applicants: Sierrita Gas Pipeline LLC.

Description: § 4(d) Rate Filing: 2024 Jan Quarterly FL&U Filing to be effective 3/1/2024.

Filed Date: 1/30/24.

Accession Number: 20240130-5117.

Comment Date: 5 p.m. ET 2/12/24.

Docket Numbers: RP24-359-000.

Applicants: Wyoming Interstate Company, L.L.C.

Description: § 4(d) Rate Filing: Fuel_LU Quarterly Update Filing Eff Mar 2024 to be effective 3/1/2024.

Filed Date: 1/30/24.

Accession Number: 20240130-5127.

Comment Date: 5 p.m. ET 2/12/24.

Docket Numbers: RP24-360-000.

Applicants: El Paso Natural Gas Company, L.L.C.

Description: § 4(d) Rate Filing: Negotiated Rate Agreements Update (Hartree 614700 615843 610670 Feb 2024) to be effective 2/1/2024.

Filed Date: 1/30/24.

Accession Number: 20240130-5129.

Comment Date: 5 p.m. ET 2/12/24.

Any person desiring to intervene, to protest, or to answer a complaint in any of the above proceedings must file in accordance with Rules 211, 214, or 206 of the Commission's Regulations (18 CFR 385.211, 385.214, or 385.206) on or before 5 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 30, 2024.
Debbie-Anne A. Reese,
Acting Secretary.

[FR Doc. 2024-02202 Filed 2-2-24; 8:45 am]

BILLING CODE 6717-01-P